DEPARTMENT OF ENERGY

Federal Energy Regulatory Commission

Combined Notice of Filings

Take notice that the Commission has received the following Natural Gas Pipeline Rate and Refund Report filings:

Docket Numbers: RP21-90-000.

Applicants: NEXUS Gas Transmission, LLC.

Description: § 4(d) Rate Filing: Negotiated Rate—Noble Gas to DTE Energy 960614 to be effective 11/1/2020.

Filed Date: 10/23/20.

Accession Number: 20201023-5002

Comments Due: 5 p.m. ET 11/4/20.

Docket Numbers: RP21-91-000.

Applicants: Algonquin Gas Transmission, LLC.

Description: § 4(d) Rate Filing: NRA Oct. 2020 Name Change Cleanup Bay State to Eversource to be effective 11/23/2020.

Filed Date: 10/23/20.

Accession Number: 20201023-5003.

Comments Due: 5 p.m. ET 11/4/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2020.
Nathaniel J. Davis, Sr.,
Deputy Secretary.

[FR Doc. 2020-24084 Filed 10-29-20; 8:45 am]

BILLING CODE 6717-01-P